DEPARTMENT OF AGRICULTURE

Agricultural Marketing Service

[Doc. No. AMS-LS-09-0054]

Results of Soybean Request for Referendum

AGENCY: Agricultural Marketing Service, USDA.

ACTION: Notice.

SUMMARY: The results of the Agricultural Marketing Service's (AMS) Request for Referendum indicate that too few soybean producers wanted a referendum on the Soybean Promotion and Research Order (Order) for one to be conducted. The Request for Referendum was conducted from May 4, 2009, through May 29, 2009, at the Department of Agriculture's (USDA) Farm Service Agency county offices. To trigger a referendum, 58,918 soybean producers needed to complete a Request for Referendum. The number of soybean producers requesting a referendum was 759.

FOR FURTHER INFORMATION CONTACT: Kenneth R. Payne, Chief, Marketing Programs Branch, Livestock and Seed Program, AMS, USDA, Room 2628-S, STOP 0251, 1400 Independence Avenue, SW., Washington, DC 20250-0251; Telephone 202/720-1115; Fax 202/720-1125; or e-mail to Kenneth.Payne@ams.usda.gov.

SUPPLEMENTARY INFORMATION: Pursuant to the Soybean Promotion, Research, and Consumer Information Act (Act) (7 U.S.C. 6301 et seq.), every 5 years the Secretary of Agriculture (Secretary) gives soybean producers the opportunity to request a referendum on the Order. If the Secretary determines that at least 10 percent of U.S. producers engaged in growing soybeans (not in excess of one-fifth of which may be producers in any one State) support the conduct of a referendum, the Secretary must conduct a referendum within 1 year of that determination. If these requirements are not met, a referendum is not conducted.

A notice of opportunity to Request a Soybean Referendum was published in the Federal Register (74 FR 9382) on March 4, 2009. To be eligible to participate in the Request for Referendum, producers or the producer entity that they are authorized to represent must provide supporting documentation showing that they or the producer entity they represent paid an assessment sometime during the representative period between January 1, 2007, and December 31, 2008. Based on USDA data, there are 589,182 soybean producers in the United States. This information was published in the Federal Register (74 FR 9047) on March 2, 2009, to establish the number of producers eligible to request a referendum.

A total of 759 valid Requests for Referendum were completed by eligible soybean producers. This number does not meet the requisite number of 58,918. Therefore, based on the Request for Referendum results, a referendum will not be conducted. In accordance with the provisions of the Act, soybean producers will be provided another opportunity to request a referendum in 5 years.

The following is the State-by-State results of the Request for Referendum:

State | Valid ballots
Alabama | 2
Alaska | 0
Arizona | 0
Arkansas | 1
California | 0
Colorado | 0
Connecticut | 0
Delaware | 2
Florida | 1
Georgia | 1
Hawaii | 0
Idaho | 0
Illinois | 112
Indiana | 112
Iowa | 102
Kansas | 15
Kentucky | 5
Louisiana | 0
Maine | 0
Maryland | 11
Massachusetts | 0
Michigan | 31
Minnesota | 71
Mississippi | 0
Missouri | 62
Montana | 0
Nebraska | 27
Nevada | 0
New Hampshire | 0
New Jersey | 0
New Mexico | 0
New York | 10
North Carolina | 13
North Dakota | 3
Ohio | 87
Oklahoma | 3
Oregon | 0
Pennsylvania | 3
Rhode Island | 0
South Carolina | 3
South Dakota | 38
Tennessee | 7
Texas | 4
Utah | 0
Vermont | 0
Virginia | 6
Washington | 0
West Virginia | 2
Wisconsin | 25
Wyoming | 0

Authority: 7 U.S.C. 6301-6311.

Dated: November 19, 2009.
Rayne Pegg,
Administrator, Agricultural Marketing Service.

[FR Doc. E9-28233 Filed 11-24-09; 8:45 am]

BILLING CODE 3410-02-P